DEPARTMENT OF ENERGY

Agency Information Collection Extension

AGENCY: U.S. Department of Energy.

ACTION: Notice and Request for Comments.

SUMMARY: The Department of Energy (DOE), pursuant to the Paperwork Reduction Act of 1995, intends to extend for three years, an information collection request with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before October 14, 2014. If you anticipate difficulty in submitting comments within that period, contact the person listed below as soon as possible.

ADDRESSES: Written comments may be sent to Sharon Archer by fax at 202-287-1349 or by email to Sharon.Archer@hq.doe.gov.

FOR FURTHER INFORMATION CONTACT: Requests for additional information or copies of the information collection instrument and instructions should be directed to Sharon Archer at 202-287-1739 or by fax at 202-287-1349 or by email at Sharon.Archer@hq.doe.gov.

SUPPLEMENTARY INFORMATION: This information collection request contains: (1) OMB No.: 1910-4100; (2) Information Collection Request Title: Procurement Requirements; (3) Type of Review: Renewal; (4) Purpose: Under 48 CFR part 952 and Subpart 970.52, DOE must collect certain types of information from those seeking to do business with the Department or those awarded contracts by the Department. This package contains information collections necessary for the solicitation, award, administration, and closeout of procurement contracts. (5) Annual Estimated Number of Respondents: 7,529; (6) Annual Estimated Number of Total Responses: 7,529; (7) Annual Estimated Number of Burden Hours: 896,199; (8) Annual Estimated Reporting and Recordkeeping Cost Burden: $71,695,920.

Statutory Authority: 42 U.S.C. 2201.

Issued in Washington, DC, on August 4, 2014.
Patrick M. Ferraro,
Deputy Director, Office of Acquisition and Project Management.

[FR Doc. 2014-19139 Filed 8-12-14; 8:45 am]

BILLING CODE 6450-01-P